DEPARTMENT OF THE INTERIOR

Fish and Wildlife Service

Notice of Receipt of Application for Endangered Species Permit

AGENCY: U.S. Fish and Wildlife Service, Interior.

ACTION: Notice of Receipt.

The following applicant has applied for a permit to conduct certain activities with an endangered species. This notice is provided pursuant to section 10(c) of the Endangered Species Act of 1973, as amended (16 U.S.C. 1531 et seq.):

PRT-TE058917-0

Applicant: U.S. Fish and Wildlife Service, Virginia Field Office

The applicant requests authorization to take (collect and kill) glochidia of two Federally listed endangered freshwater mussels, dwarf wedge mussel (Alasmidonta heterodon) from Sullivan County, New Hampshire, and oyster mussel (Epioblasma capsaeformis), from Scott County, Virginia and Hancock County, Tennessee. Acute and chronic toxicity tests will be conducted to determine effect levels on imperiled mussels.

Written data or comments should be submitted to the Regional Permits Coordinator, U.S. Fish and Wildlife Service, 300 Westgate Center Drive, Hadley, Massachusetts 01035 and must be received within 30 days of the date of this publication.

Documents and other information submitted with this application are available for review by any party who submits a written request for a copy of such documents to the following office within 30 days of the date of publication of this notice: U.S. Fish and Wildlife Service, 300 Westgate Center Drive, Hadley, Massachusetts 01035. Attention: Diane Lynch, Regional Permits Coordinator. Telephone: 413-253-8628; Fax: 413-253-8482.

Dated: July 3, 2002.
Richard O. Bennett,
Acting Regional Director.

[FR Doc. 02-17788 Filed 7-15-02; 8:45 am]

BILLING CODE 4310-55-P